DEPARTMENT OF COMMERCE

International Trade Administration

[A-588-837]

Large Newspaper Printing Presses and Components Thereof, Whether Assembled or Unassembled, from Japan: Final Results of Changed Circumstances Review

AGENCY: Import Administration, International Trade Administration, Department of Commerce.

SUMMARY: The Department has determined to apply an adverse facts available rate of 59.67 percent to Tokyo Kikai Seisakusho, Ltd. (TKS) in the 1997-1998 administrative review under section 776(b) of the Tariff Act of 1930, as amended (the Act), as a result of TKS' misconduct during this review. We are also rescinding the company-specific revocation with respect to TKS and reinstating the order with respect to TKS from September 1, 2000, through September 3, 2001, the day before the effective date of the sunset revocation. Upon the completion of this review, we will reopen for reconsideration the sunset review that resulted in revocation of this order.

EFFECTIVE DATE: March 8, 2006.

FOR FURTHER INFORMATION CONTACT: David J. Goldberger or Kate Johnson, Import Administration, International Trade Administration, U.S. Department of Commerce, 14th Street and Constitution Avenue, NW., Washington, DC 20230; telephone (202) 482-4136, or (202) 482-4929 respectively.

SUPPLEMENTARY INFORMATION:

Background

On May 10, 2005, the Department of Commerce (the Department) self-initiated a changed circumstances review of large newspaper printing presses and components thereof, whether assembled or unassembled (LNPPs), from Japan, to consider information contained in a recent federal court decision, Goss International Corp. v. Tokyo Kikai Seisakusho, Ltd., 321 F.Supp.2d 1039 (N.D. Iowa 2004) (Goss Int'l). See Large Newspaper Printing Presses and Components Thereof, Whether Assembled or Unassembled, from Japan: Initiation of Changed Circumstances Review, 70 FR 24514 (May 10, 2005) (Notice of Initiation). As detailed in our Notice of Initiation, evidence was presented in that court proceeding demonstrating that TKS intentionally provided false information regarding its sale to the Dallas Morning News (DMN), the subject of the Department's 1997-1998 administrative review.

On September 13, 2005, the Department published a notice of preliminary results of changed circumstances review in which it preliminarily determined that it was appropriate to take the following course of action in order to protect the integrity of the Department's proceedings: (1) Revise TKS' margin for the 1997-1998 review to apply a rate of 59.67 percent based on adverse facts available, pursuant to section 776(b) of the Act; (2) rescind the company-specific revocation of the antidumping duty order for TKS because TKS no longer qualifies for revocation based on three consecutive administrative reviews resulting in zero dumping margins under 19 CFR 351.222(b); and (3) reconsider the sunset review which resulted in the revocation of the entire order, pursuant to section 751(c) of the Act. See Large Newspaper Printing Presses and Components Thereof, Whether Assembled or Unassembled, From Japan: Preliminary Results of Changed Circumstances Review, 70 FR 54019, 54023 (September 13, 2005) (Preliminary Results).

The interested parties submitted case and rebuttal briefs on October 20 and 27, 2005, respectively. Also in October 2005, several parties submitted letters addressing the preliminary results, including newspaper publishers The Washington Post and North Jersey Media Group, Inc. A public hearing and a closed hearing were held on November 15, 2005.

On January 26, 2006, we invited comments on the decision of the U.S. Court of Appeals for the Eighth Circuit in Goss Int'l Corp. v. Man Roland Druckmaschinen Aktiengesellschaft, No. 04-2604, 2006 U.S. App. LEXIS 1569 (8th Cir. Jan. 23, 2006), affirming the decision of the Iowa district court in Goss Int'l. Goss International Corporation, TKS, and Mitsubishi Heavy Industries, Ltd. filed comments on January 31, 2006.

Scope of the Changed Circumstances Review

The products covered by this changed circumstances review are large newspaper printing presses, including press systems, press additions and press components, whether assembled or unassembled, whether complete or incomplete, that are capable of printing or otherwise manipulating a roll of paper more than two pages across. A page is defined as a newspaper broadsheet page in which the lines of type are printed perpendicular to the running of the direction of the paper or a newspaper tabloid page with lines of type parallel to the running of the direction of the paper.

In addition to press systems, the scope of the review includes the five press system components. They are: (1) A printing unit, which is any component that prints in monocolor, spot color and/or process (full) color; (2) a reel tension paster (RTP), which is any component that feeds a roll of paper more than two newspaper broadsheet pages in width into a subject printing unit; (3) a folder, which is a module or combination of modules capable of cutting, folding, and/or delivering the paper from a roll or rolls of newspaper broadsheet paper more than two pages in width into a newspaper format; (4) conveyance and access apparatus capable of manipulating a roll of paper more than two newspaper broadsheet pages across through the production process and which provides structural support and access; and (5) a computerized control system, which is any computer equipment and/or software designed specifically to control, monitor, adjust, and coordinate the functions and operations of large newspaper printing presses or press components.

A press addition is comprised of a union of one or more of the press components defined above and the equipment necessary to integrate such components into an existing press system.

Because of their size, LNPP systems, press additions, and press components are typically shipped either partially assembled or unassembled, complete or incomplete, and are assembled and/or completed prior to and/or during the installation process in the United States. Any of the five components, or collection of components, the use of which is to fulfill a contract for LNPP systems, press additions, or press components, regardless of degree of assembly and/or degree of combination with non-subject elements before or after importation, is included in the scope of this review. Also included in the scope are elements of a LNPP system, addition or component, which taken altogether, constitute at least 50 percent of the cost of manufacture of any of the five major LNPP components of which they are a part.

For purposes of the review, the following definitions apply irrespective of any different definition that may be found in customs rulings, U.S. customs law or the Harmonized Tariff Schedule of the United States (HTSUS): (1) The term “unassembled” means fully or partially unassembled or disassembled; and (2) the term “incomplete” means lacking one or more elements with which the LNPP is intended to be equipped in order to fulfill a contract for a LNPP system, addition or component.

This scope does not cover spare or replacement parts. Spare or replacement parts imported pursuant to a LNPP contract, which are not integral to the original start-up and operation of the LNPP, and are separately identified and valued in a LNPP contract, whether or not shipped in combination with covered merchandise, are excluded from the scope of this review. Used presses are also not subject to this scope. Used presses are those that have been previously sold in an arm's-length transaction to a purchaser that used them to produce newspapers in the ordinary course of business.

Also excluded from the scope are elements and components of LNPP systems, and additions thereto, which feature a 22-inch cut-off, 50-inch web width and a rated speed no greater than 75,000 copies per hour. See Large Newspaper Printing Presses Components Thereof, Whether Assembled or Unassembled, from Japan: Final Results of Changed Circumstances Antidumping Duty Administrative Review and Intent to Revoke Antidumping Duty Order, In Part, 64 FR 72315 (December 27, 1999). In addition to the specifications set out in this paragraph, all of which must be met in order for the product to be excluded from the scope of the review, the product must also meet all of the specifications detailed in the five numbered sections following this paragraph. If one or more of these criteria is not fulfilled, the product is not excluded from the scope of the review.

1. Printing Unit: A printing unit which is a color keyless blanket-to-blanket tower unit with a fixed gain infeed and fixed gain outfeed, with a rated speed no greater than 75,000 copies per hour, which includes the following features:

• Each tower consisting of four levels, one or more of which must be populated.

• Plate cylinders which contain slot lock-ups and blanket cylinders which contain reel rod lock-ups both of which are of solid carbon steel with nickel plating and with bearers at both ends which are configured in-line with bearers of other cylinders.

• Keyless inking system which consists of a passive feed ink delivery system, an eight roller ink train, and a non-anilox and non-porous metering roller.

• The dampener system which consists of a two nozzle per page spraybar and two roller dampener with one chrome drum and one form roller.

• The equipment contained in the color keyless ink delivery system is designed to achieve a constant, uniform feed of ink film across the cylinder without ink keys. This system requires use of keyless ink which accepts greater water content.

2. Folder: A module which is a double 3:2 rotary folder with 160 pages collect capability and double (over and under) delivery, with a cut-off length of 22 inches. The upper section consists of three-high double formers (total of 6) with six sets of nipping rollers.

3. RTP: A component which is of the two-arm design with core drives and core brakes, designed for 50 inch diameter rolls; and arranged in the press line in the back-to-back configuration (left and right hand load pairs).

4. Conveyance and Access Apparatus: Conveyance and access apparatus capable of manipulating a roll of paper more than two newspaper broadsheets across through the production process, and a drive system which is of conventional shafted design.

5. Computerized Control System: A computerized control system, which is any computer equipment and/or software designed specifically to control, monitor, adjust, and coordinate the functions and operations of large newspaper printing presses or press components.

Further, this review covers all current and future printing technologies capable of printing newspapers, including, but not limited to, lithographic (offset or direct), flexographic, and letterpress systems. The products covered by this review are imported into the United States under subheadings 8443.11.10, 8443.11.50, 8443.30.00, 8443.59.50, 8443.60.00, and 8443.90.50 of the HTSUS. LNPPs may also enter under HTSUS subheadings 8443.21.00 and 8443.40.00. LNPP computerized control systems may enter under HTSUS subheadings 8471.49.10, 8471.49.21, 8471.49.26, 8471.50.40, 8471.50.80, and 8537.10.90. Although the HTSUS subheadings are provided for convenience and customs purposes, our written description of the scope of the review is dispositive.

Analysis of Comments Received

All issues raised in the case and rebuttal briefs submitted by parties to this proceeding are listed in the appendix to this notice and addressed in the Decision Memorandum hereby adopted by this notice. The Decision Memorandum is on file in room B-099 of the main Department building. In addition, a complete version of the Decision Memorandum can be accessed directly on the World Wide Web at http://ia.ita.doc.gov. The paper and electronic versions of the Decision Memorandum are identical in content.

Final Results

We affirm our decision to apply an adverse facts available rate of 59.67 percent to TKS in the 1997-1998 administrative review under section 776(b) of the Act as a result of TKS' misconduct during this review. For a full discussion of the application of facts available and adverse inferences, see the Preliminary Results, 70 FR at 54021-23, and the Decision Memorandum accompanying this notice at Comment 5. This rate was corroborated at the preliminary results and we have uncovered no new information since the preliminary results that warrants modification of our analysis. See also AFA Rate Selection Memorandum dated September 6, 2005. In addition, because the rate for the 1997-1998 administrative review is no longer zero, TKS no longer qualifies for revocation of the antidumping duty order based on three consecutive administrative reviews resulting in zero dumping margins, pursuant to 19 CFR 351.222(b). Therefore, we are rescinding the revocation with respect to TKS and reinstating the order with respect to TKS from September 1, 2000, through September 3, 2001, the day before the effective date of the sunset revocation. See Comment 2 in the accompanying Decision Memorandum. Furthermore, upon the completion of this review, we will reopen for reconsideration the sunset review that resulted in revocation of this order. We will conduct the sunset review following the procedures outlined in section 751(c) of the Act and 19 CFR 351.218. See Comment 3 in the accompanying Decision Memorandum.

This notice serves as advance notification that we will reopen a sunset review approximately 30 days after publication of these final results. This advance notification is not required by statute but is provided as a service to the international trading community.

We are issuing and publishing this determination and notice in accordance with sections 751(b) and 777(i)(1) of the Act and 19 CFR 351.216.

Dated: March 1, 2006.
David M. Spooner,
Assistant Secretary for Import Administration.

Appendix—Issues in the Decision Memorandum

Comment 1: Department's Authority to Conduct this Review

Comment 2: Department's Authority to Reinstate the Antidumping Duty Order

Comment 3: Department's Authority to Reconsider the Sunset Review which Resulted in Revocation of the Order

Comment 4: Allegations of TKS' Misconduct in the 1998-1999 and 1999-2000 Administrative Reviews

Comment 5: Adverse Facts Available Rate Applied to TKS

[FR Doc. E6-3295 Filed 3-7-06; 8:45 am]

BILLING CODE 3510-DS-S